OVERSEAS PRIVATE INVESTMENT CORPORATION

[OMB-3420-00015; OPIC-115]

Submission for OMB Review

AGENCY: Overseas Private Investment Corporation (OPIC).

ACTION: Notice and request for comments.

SUMMARY: Under the provisions of the Paperwork Reduction Act (44 U.S.C. Chapter 35), agencies are required to publish a Notice in the Federal Register notifying the public that the agency is modifying an existing information collection for OMB review and approval.

DATES: Comments must be received within sixty (60) calendar days of publication of this Notice.

ADDRESSES: Mail all comments and requests for copies of the subject form to OPIC's Agency Submitting Officer: Fredrick Nutt, Managing Director, Department of Management and Administration, Overseas Private Investment Corporation, 1100 New York Avenue NW., Washington, DC 20527. See SUPPLEMENTARY INFORMATION for other information about filing.

FOR FURTHER INFORMATION CONTACT: OPIC Agency Submitting Officer: Fredrick Nutt, Managing Director, (202) 336-6206.

SUPPLEMENTARY INFORMATION: All mailed comments and requests for copies of the subject form should include form number [OPIC-115] on both the envelope and in the subject line of the letter. Electronic comments and requests for copies of the subject form may be sent to Fredrick.Nutt@opic.gov, subject line [OPIC-115].

Summary Form Under Review

Type of Request: Revision of a currently approved information collection.

Title: Application for Project Finance.

Form Number: OPIC-115.

Frequency of Use: Once per investor per project.

Type of Respondents: Business or other institution (except farms); individuals.

Standard Industrial Classification Codes: All.

Description of Affected Public: U.S. companies or citizens investing overseas.

Reporting Hours: 150 hours (0.75 hours per response).

Number of Responses: 200 per year.

Federal Cost: $7638.00

Authority for Information Collection: Sections 231, 234(b)-(c), 239(d), and 240A of the Foreign Assistance Act of 1961, as amended.

Abstract (Needs and Uses): The application is the principal document used by OPIC to determine the investor's and the project's eligibility for project financing and collect information for financial underwriting analysis.

Dated: December 17, 2014.
Nichole Cadiente,
Administrative Counsel, Department of Legal Affairs.

[FR Doc. 2014-29980 Filed 12-22-14; 8:45 am]

BILLING CODE 3210-01-P